DEPARTMENT OF LABOR

Employment and Training Administration

[TA-W-39,897]

American Steel & Wire Division of Birmingham Steel, Cuyahoga Heights, OH; Notice of Termination of Investigation

Pursuant to section 221 of the Trade Act of 1974, an investigation was initiated on August 27, 2001, in response to a worker petition filed on behalf of workers at American Steel & Wire, a Division of Birmingham Steel, Cuyahoga Heights, Ohio.

The petitioning group of workers is subject to an ongoing investigation (TA-W-39,639). Consequently, further investigation in this case would serve no purpose, and the investigation has been terminated.

Signed at Washington, DC, this 31st day of October, 2001.
Linda G. Poole,
Certifying Officer, Division of Trade Adjustment Assistance.

[FR Doc. 01-28175 Filed 11-8-01; 8:45 am]

BILLING CODE 4510-30-M